DEPARTMENT OF COMMERCE

International Trade Administration

[A-423-602]

Final Results of Full Sunset Review: Industrial Phosphoric Acid From Belgium

AGENCY: Import Administration, International Trade Administration, Department of Commerce.

ACTION: Notice of Final Results of Full Sunset Review: Industrial Phosphoric Acid from Belgium.

SUMMARY: On September 23, 1999, the Department of Commerce (“the Department”) published a notice of preliminary results of the full sunset review of the antidumping duty order on industrial phosphoric acid from Belgium (64 FR 51511) pursuant to section 751(c) of the Tariff Act of 1930, as amended (“the Act”). We provided interested parties an opportunity to comment on our preliminary results. We received comments from the domestic interested parties. The Department did not receive a request for a public hearing, and, therefore, no hearing was held. As a result of this review, the Department finds that revocation of the antidumping duty order would likely lead to continuation or recurrence of dumping at the levels indicated in the Final Results of Review section of this notice.

EFFECTIVE DATE: January 24, 2000.

FOR FURTHER INFORMATION CONTACT: Darla D. Brown or Melissa G. Skinner, Office of Policy for Import Administration, International Trade Administration, U.S. Department of Commerce, 14th Street and Constitution Avenue, NW, Washington, DC 20230; telephone: (202) 482-3207 or (202) 482-1560, respectively.

SUPPLEMENTARY INFORMATION:

Statute and Regulations

This review was conducted pursuant to sections 751(c) and 752 of the Act. The Department's procedures for the conduct of sunset reviews are set forth in Procedures for Conducting Five-year (“Sunset”) Reviews of Antidumping and Countervailing Duty Orders, 63 FR 13516 (March 20, 1998) (“Sunset Regulations”) and 19 CFR Part 351 (1998) in general. Guidance on methodological or analytical issues relevant to the Department's conduct of sunset reviews is set forth in the Department's Policy Bulletin 98:3—Policies Regarding the Conduct of Five-year (“Sunset”) Reviews of Antidumping and Countervailing Duty Orders; Policy Bulletin, 63 FR 18871 (April 16, 1998) (“Sunset Policy Bulletin”).

Scope

The merchandise subject to this antidumping duty order is industrial phosphoric acid (“IPA”) from Belgium. IPA is currently classifiable under item number 2809.20.00 of the Harmonized Tariff Schedule of the United States (“HTSUS”). Although the HTSUS subheadings are provided for convenience and customs purposes, the written description remains dispositive.

Background

On September 23, 1999, the Department issued its Preliminary Results of Full Sunset Review: Industrial Phosphoric Acid from Belgium (64 FR 51511) (“Preliminary Results”). In our Preliminary Results, we found that revocation of the order would likely result in continuation or recurrence of dumping. In addition, we preliminarily determined that the magnitude of the margin of dumping likely to prevail were the order revoked was 14.67 percent for Societe Chimique Prayon-Rupel, S.A. (“Prayon”) as well as for “all other” producers and/or exporters.

On November 8, 1999, within the deadline specified in 19 CFR 351.309(c)(1)(i), we received comments on behalf of Albright and Wilson Americas, Inc., FMC Corporation, and Solutia Inc. (collectively, the “domestic interested parties”). We have addressed the comments received below.

Comments

Comment 1: The domestic interested parties maintain that the Department correctly found that dumping would likely continue or recur if the antidumping duty order were revoked. The domestic interested parties base their conclusion on the fact that dumping has continued over the life of the order as well as the fact that import volumes have declined significantly over the life of the order. In addition, the domestic interested parties argue that the Department correctly rejected Prayon's argument that future exchange rates would eliminate Prayon's dumping margin.

Department: The Department agrees with the domestic interested parties. For reasons provided in greater detail in our Preliminary Results, we find that dumping has continued over the life of the order and is likely to continue if the order were revoked.

Comment 2: The domestic interested parties argue that the Department correctly chose the margin of dumping found in the original less than fair value (“LTFV”) determination as the margin to report to the International Trade Commission (“the Commission”). The domestic interested parties maintain that the Department was correct in selecting the margins from the original investigation to forward to the Commission because these margins are the only calculated rates which reflect the behavior of producers/exporters without the discipline of the order in place.

Department: The Department agrees with the domestic interested parties. Again, for reasons provided in detail in our Preliminary Results, we find that the margins likely to prevail were the order revoked would be 14.67 percent for Prayon and 14.67 percent for “all others”.

Final Results of Review

As a result of this review, the Department preliminarily finds that revocation of the antidumping duty order would likely lead to continuation or recurrence of dumping at the margins listed below:

Manufacturer/exporter | Margin (percent)
Prayon | 14.67
All Others | 14.67

This notice serves as the only reminder to parties subject to administrative protective order (“APO”) of their responsibility concerning the disposition of proprietary information disclosed under APO in accordance with 19 CFR 351.305 of the Department's regulations. Timely notification of return/destruction of APO materials or conversion to judicial protective order is hereby requested. Failure to comply with the regulations and the terms of an APO is a sanctionable violation.

This five-year (“sunset”) review and notice are in accordance with sections 751(c), 752, and 777(i)(1) of the Act.

Dated: January 18, 2000.
Robert S. LaRussa,
Assistant Secretary for Import Administration.

[FR Doc. 00-1659 Filed 1-21-00; 8:45 am]

BILLING CODE 3510-DS-P